ENVIRONMENTAL PROTECTION AGENCY

[EPA-HQ-OPPT-2018-0516; FRL-9981-64]

Agency Information Collection Activities; Proposed Extension of an Existing Collection (EPA ICR No. 0586.14); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “TSCA Section 8(a) Preliminary Assessment Information Rule (PAIR)” and identified by EPA ICR No. 0586.14 and OMB Control No. 2070-0054, represents the renewal of an existing ICR that is scheduled to expire on April 30, 2019. Before submitting the ICR to OMB for review and approval, EPA is soliciting comments on specific aspects of the proposed information collection that is summarized in this document. The ICR and accompanying material are available in the docket for public review and comment.

DATES: Comments must be received on or before October 29, 2018.

ADDRESSES: Submit your comments, identified by docket identification (ID) number EPA-HQ-OPPT-2018-0516, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Andrea Mojica, Chemical Control Division (7405M), Office of Pollution Prevention and Toxics, Environmental Protection Agency, 1200 Pennsylvania Ave. NW, Washington, DC 20460-0001; telephone number: (202) 564-0599; email address: mojica.andrea@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: TSCA Section 8(a) Preliminary Assessment Information Rule (PAIR).

ICR number: EPA ICR No. 0586.14.

OMB control number: OMB Control No. 2070-0054.

ICR status: This ICR is currently scheduled to expire on April 30, 2019. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: On June 22, 1982, EPA promulgated the generic section 8(a) PAIR (40 CFR part 712) under the Toxic Substances Control Act (TSCA). EPA uses PAIR to collect information to help identify, assess, and manage human health and environmental risks from chemical substances, mixtures and categories of chemical substances and mixtures. PAIR requires chemical manufacturers (including importers) to complete and submit standardized information about production, use, or exposure-related data to help evaluate the potential for human health and environmental risks caused by the manufacture of identified chemical substances or mixtures. The Frank R. Lautenberg Chemical Safety for the 21st Century Act amending TSCA was enacted on June 22, 2016; however, the underlying authority for a Section 8(a) PAIR rule was not modified. While the Agency has not issued a Section 8(a) PAIR rule since 2006, given the new requirement under amended TSCA Section 6(b)(1) to prioritize chemicals for risk evaluation, it is possible that the Agency may start requesting section 8(a) reporting more frequently.

EPA or other federal agencies (e.g., the agencies that are part of the Interagency Testing Committee (ITC) as authorized under TSCA section 4(e)) can identify chemicals for a TSCA section 8(a) PAIR expediated rulemaking that have a justifiable need for production, use, or exposure-related data. In instances, such as when EPA must reach a decision on whether testing of a chemical is necessary, the information that EPA receives from a PAIR report may contribute to satisfying EPA's information needs.

This information collection activity also covers certain specific chemical testing and reporting requirements under Subpart B of 40 CFR part 766 that are in part very similar to the PAIR requirements. The Agency rarely receives submissions of the information required by 40 CFR 766. EPA received less than five submissions over the course of the last OMB approval for this aspect of the information collection.

The dibenzo-para-dioxin/dibenzofuran regulations at 40 CFR part 766 require that any person who manufactures, imports, or processes a chemical substance listed at 40 CFR 766.25 test that chemical substance and submit appropriate information to EPA according to the schedules described at 40 CFR 766.35. Persons who commence manufacture, import, or processing of a chemical substance listed at 40 CFR 766.25 must submit a letter of intent to test or an exemption application within 60-days of starting any of those activities. Each person who is manufacturing or processing a chemical listed in 40 CFR 766.25 must submit a protocol for testing according to the schedule at 40 CFR 766.35(a)(2). Persons who manufacture or import a chemical substance listed under 40 CFR 766.25 must report positive test results, using the Dioxin/Furan Report Form (EPA Form 7710-51), of all existing test data that show that chemical substance has been tested for the presence of halogenated dibenzodioxins/halogenated dibenzofurans (HDDs/HDFs), as well as any health and safety studies for the chemical substance, as defined in the regulation, no later than 90 days after the date of submission of the positive test result. Additionally, any manufacturer or importer of a chemical substance listed in 40 CFR 766.25 in possession of unpublished health and safety studies on HDDs/HDFs is required to submit copies of such studies to EPA, in accordance with certain provisions of 40 CFR 716, no later than 90 days after the person first manufactures or imports the chemical substance.

Burden statement: The annual public reporting and recordkeeping burden for this collection of information is estimated to average 31 hours per response. Burden is defined in 5 CFR 1320.3(b).

The ICR, which is available in the docket along with other related materials, provides a detailed explanation of the collection activities and the burden estimate that is only briefly summarized here:

Respondents/Affected Entities: Entities potentially affected by this ICR are companies that manufacture, import, or process chemical substances or mixtures.

Estimated total annual number of potential respondents: 1.

Frequency of response: On occasion.

Estimated total annual average number of responses for each respondent: 1.

Estimated total annual burden hours: 31 hours.

Estimated total annual costs: $2,364. This includes an estimated burden cost of $2,364 and an estimated cost of $0 for capital investment or maintenance and operational costs.

III. Are there changes in the estimates from the last approval?

There is a decrease of 1 hour in the total estimated respondent burden compared with that identified in the ICR currently approved by OMB. This decrease reflects a correction in the ICR renewal which eliminates the burden from trade name notification by processors (included previously in error) and the increased CBI substantiation requirements in the 2016 Lautenberg Act amendments to TSCA. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: August 20, 2018.
Charlotte Bertrand,
Acting Principal Deputy Assistant Administrator, Office of Chemical Safety and Pollution Prevention.

[FR Doc. 2018-18752 Filed 8-28-18; 8:45 am]

BILLING CODE 6560-50-P